DEPARTMENT OF COMMERCE

Foreign-Trade Zones Board

[Docket 57-2000]

Foreign-Trade Zone 54—Clinton County, New York; Application for Expansion

An application has been submitted to the Foreign-Trade Zones Board (the Board) by the County of Clinton, New York, grantee of FTZ 54, requesting authority to expand its general-purpose zone site to include an additional site in Plattsburgh, New York. The application was submitted pursuant to the provisions of the Foreign-Trade Zones Act, as amended (19 U.S.C. 81a-81u), and the regulations of the Board (15 CFR Part 400). It was formally filed on November 13, 2000.

FTZ 54 was approved on February 14, 1980 (Board Order 153, 45 FR 12469, 2/26/80) and expanded on September 23, 1982 (Board Order 196, 47 FR 43102, 9/30/82), and on May 29, 1996 (Board Order 829, 61 FR 28840, 6/6/96). The zone project currently includes three general-purpose zone sites: Site 1 (123 acres)—Clinton County Air Industrial Park, Plattsburgh; Site 2 (11 acres)—One Trans-Boarder Drive, Champlain, at I-87 and U.S. Route 11, operated by Trans-Border Customs Services, Inc.; and Site 3 (200 acres)—Champlain Industrial Park, located on New York State Route 11 in Champlain (also includes two temporary parcels (both expire 11/30/01) located at 5 Coton Lane (4 acres) and 2002 Ridge Road (15,000 sq ft)).

The applicant is now requesting authority, on behalf of the Plattsburgh Airbase Redevelopment Corporation, to expand the general-purpose zone to include an additional site (Proposed Site 4; 3,200 acres) located at the former Plattsburgh Air Force Base, Interstate 87 and U.S. Route 9, Plattsburgh. The property is owned by the United States Air Force, which is in the process of conveying the property to the County of Clinton Industrial Development Agency, a municipal corporation, as part of a base conversion project.

In accordance with the Board's regulations, a member of the FTZ Staff has been designated examiner to investigate the application and report to the Board.

Public comment is invited from interested parties. Submissions (original and 3 copies) shall be addressed to the Board's Executive Secretary at the address below. The closing period for their receipt is January 26, 2001. Rebuttal comments in response to material submitted during the foregoing period may be submitted during the subsequent 15-day period to February 12, 2001.

A copy of the application and accompanying exhibits will be available for public inspection at each of the following locations:

The Development Corporation of Clinton County, New York, 61 Area Development Drive, Plattsburgh, New York 12901

Office of the Executive Secretary, Foreign-Trade Zones Board, U.S. Department of Commerce, 14th & Pennsylvania Avenue, NW, Washington, DC 20230

Dated: November 14, 2000.
Dennis Puccinelli,
Executive Secretary.

[FR Doc. 00-30145 Filed 11-24-00; 8:45 am]

BILLING CODE 3510-DS-P